FEDERAL COMMUNICATIONS COMMISSION

47 CFR Part 64

[EB Docket No. 20-22; FCC 20-34]

Implementing the Pallone-Thune Telephone Robocall Abuse Criminal Enforcement and Deterrence Act

AGENCY: Federal Communications Commission.

ACTION: Proposed rule.

SUMMARY: In this document, the Commission invites comment on what action the Commission should take, pursuant to the Pallone-Thune Telephone Robocall Abuse Criminal Enforcement and Deterrence (TRACED) Act, if the registered consortium contemplated by the TRACED Act identifies a provider of voice service subject to a delay of compliance with the STIR/SHAKEN implementation mandate as repeatedly originating large-scale unlawful robocall campaigns.

DATES: Comments are due on or before July 10, 2020 and reply comments are due on or before July 27, 2020.

ADDRESSES: You may submit comments, identified by EB Docket No. 20-22, by any of the following methods:

• Electronic Filers: Comments may be filed electronically using the internet by accessing the ECFS: http://apps.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• Ιf FCC Headquarters is open to the public, all hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first class, Express, and Priority mail must be addressed to 445 12th Street SW, Washington, DC 20554.

People with Disabilities: Contact the FCC to request reasonable accommodations (accessible format documents, sign language interpreters, CART, etc.) by email: FCC504@fcc.gov or phone: 202-418-0530 or TTY: 202-418-0432.

FOR FURTHER INFORMATION CONTACT: For additional information on this proceeding, contact Mason Shefa of the Competition Policy Division, Wireline Competition Bureau, at Mason.Shefa@fcc.gov or (202) 418-2962.

SUPPLEMENTARY INFORMATION: This is a summary of the Commission's Further Notice of Proposed Rulemaking, FCC 20-34, EB Docket No. 20-22, adopted on March 27, 2020 and released on March 27, 2020. The full text of this document is available for public inspection during regular business hours in the FCC Reference Center, 445 12th Street SW, Room CY-A257, Washington, DC 20554, or online at https://docs.fcc.gov/public/attachments/FCC-20-34A1.pdf. To request this document in accessible formats for people with disabilities (e.g., Braille, large print, electronic files, audio format, etc.) or to request reasonable accommodations (e.g., accessible format documents, sign language interpreters, CART, etc.), send an email to fcc504@fcc.gov or call the FCC's Consumer and Governmental Affairs Bureau at (202) 418-0530 (voice), (202) 418-0432 (TTY).

Synopsis

I. Notice of Proposed Rulemaking

1. In this Further Notice of Proposed Rulemaking (Further Notice), the Federal Communications Commission (Commission) invites comment on the interpretation and implementation of section 4(b)(5)(C)(ii) and (iii) of the Pallone-Thune Telephone Robocall Abuse Criminal Enforcement Act (TRACED Act). The TRACED Act mandates the widespread implementation of STIR/SHAKEN, a technology that enables voice service providers to verify that the caller ID information transmitted with a particular call matches the caller's number, but also contemplates that some voice service providers facing barriers to implementation may be granted a delay of compliance. To keep such providers from becoming new sources of unlawful robocalls, the TRACED Act requires the Commission to take action if the registered consortium identifies a provider of voice service that is subject to a delay of compliance as repeatedly originating large-scale unlawful robocall campaigns.

2. By what standard should the consortium identify voice service providers that are originating unlawful robocall campaigns, and how should the consortium assess whether a campaign is “large-scale”? What does “unlawful robocall campaigns” mean? The TRACED Act defines “suspected unlawful robocall” as calls that the Commission or a voice service provider reasonably believes to violate sections 227(b) or (e) of the Communications Act. Is the term “unlawful robocall” in section 4(b)(5)(C) of the TRACED Act narrower than “suspected unlawful robocall,” in section 13 of the TRACED Act, and if so, what level of certainty does it require? At what point would a series of unlawful calls become a “campaign”? Does “campaign” suggest a pattern of calls that appear to be coordinated? How should the consortium assess whether a campaign is “large-scale”? Should “large-scale” refer only to call volume, or does it account for other factors such as burden on networks?

3. Once a provider has been identified by the registered consortium, the Commission must require the provider to take action to ensure that such provider does not continue to originate such calls and make reasonable efforts to minimize the burden of any such robocall mitigation, which may include prescribing certain specific robocall mitigation practices for providers of voice service that have repeatedly originated large-scale unlawful robocall campaigns.

4. What action or actions should we require of identified providers to ensure they do not continue to originate unlawful robocalls? Should we prescribe specific robocall mitigation practices, and if so, what practices should we prescribe? Should we require an identified provider to submit to close monitoring of its practices? Should we, the registered consortium, or some independent third party monitor these practices? Should we require the identified provider to submit a compliance plan and periodic reports on its efforts to conform to that plan? Should we propose that an identified provider make a point of contact available to the Commission, the consortium, and others and to respond to concerns within a specified period of time, such as 14 days? Should we require an identified provider to implement know-your-customer obligations—and report the contact information for each of its customers to the registered consortium or the Commission? Should we require identified providers to implement internal measures to monitor the traffic transiting their networks to ensure that it is consistent with legitimate voice traffic and to act in response to aberrant patterns? What are the benefits and drawbacks of these approaches?

5. Finally, as required by the TRACED Act, how can we ensure that any robocall mitigation requirements are not overly burdensome, but achieve the goal of mitigating robocalls originated by voice service providers identified as originating large-scale unlawful robocall campaigns? Should we prescribe specific robocall mitigation practices for the identified providers? Do commenters have other suggestions for how we should address voice service providers who are identified as originating unlawful robocall campaigns? We emphasize that we will continue to take enforcement action against perpetrators of unlawful robocall campaigns.

II. Initial Regulatory Flexibility Analysis

6. Initial Regulatory Flexibility Analysis. As required by the RFA, the Commission has prepared an Initial Regulatory Flexibility Analysis (IRFA) of the possible significant economic impact on small entities of the policies and rules addressed in the Further Notice of Proposed Rulemaking (Further Notice). Written public comments are requested on the IRFA. Comments must be filed by the deadlines for comments on the Further Notice indicated on the first page of this document and must have a separate and distinct heading designating them as responses to the IRFA. The Commission's Consumer and Governmental Affairs Bureau, Reference Information Center, will send a copy of this Further Notice of Proposed Rulemaking, including the IRFA, to the Chief Counsel for Advocacy of the Small Business Administration (SBA).

Need for, and Objectives of, the Proposed Rules

7. The Further Notice continues the Commission's efforts to combat illegal spoofed robocalls and fulfill its obligations under the TRACED Act. In the Further Notice, the Commission poses questions and issues for commenters to address which will shape the final rules adopted in this proceeding. More specifically, pursuant to its obligations in section 4(b)(5)(C)(ii) of the TRACED Act, the Commission seeks input on standards and on how to guide a consortium's identification of voice service providers that “repeatedly originat[e] large-scale unlawful robocall campaigns.” The Commission also seeks input on what actions we should take once such providers are identified, whether to adopt robocall mitigation practices, what type and whether or not to require compliance plans and whether and what type of reporting obligations should be implemented. Finally, as required by the TRACED Act, the Commission inquires how it can ensure that any robocall mitigation requirements that are adopted are not overly burdensome while simultaneously mitigating robocalls originated by voice service providers identified as originating large-scale unlawful robocall campaigns.

Legal Basis

8. The proposed action is authorized under sections 4(i), 4(j), 227, and 303(r) of the Communications Act of 1934, as amended, 47 U.S.C. 154(1), 154(j), 227, and 303(r), and section 4(b)(5)(C) of the Pallone-Thune Telephone Robocall Abuse Criminal Enforcement and Deterrence Act, Public Law 116-105, 133 Stat. 3274.

Description and Estimate of the Number of Small Entities to Which the Proposed Rules Will Apply

9. The RFA directs agencies to provide a description of and, where feasible, an estimate of the number of small entities that may be affected by the proposed rules on which the Notice seeks comment, if adopted. The RFA generally defines the term “small entity” as having the same meaning as the terms “small business,” “small organization,” and “small governmental jurisdiction.” In addition, the term “small business” has the same meaning as the term “small-business concern” under the Small Business Act. A “small-business concern” is one which: (1) Is independently owned and operated; (2) is not dominant in its field of operation; and (3) satisfies any additional criteria established by the SBA.

Wireline Carriers

10. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA has developed a small business size standard for Wired Telecommunications Carriers, which consists of all such companies having 1,500 or fewer employees. U.S. Census Bureau data for 2012 show that there were 3,117 firms that operated that year. Of this total, 3,083 operated with fewer than 1,000 employees. Thus, under this size standard, the majority of firms in this industry can be considered small.

11. Local Exchange Carriers (LECs). Neither the Commission nor the SBA has developed a size standard for small businesses specifically applicable to local exchange services. The closest applicable NAICS Code category is Wired Telecommunications Carriers. Under the applicable SBA size standard, such a business is small if it has 1,500 or fewer employees. U.S. Census Bureau data for 2012 show that 3,117 firms operated for the entire year. Of that total, 3,083 operated with fewer than 1,000 employees. Thus under this category and the associated size standard, the Commission estimates that the majority of local exchange carriers are small entities.

12. Incumbent LECs. Neither the Commission nor the SBA has developed a small-business size standard specifically for incumbent local exchange services. The closest applicable NAICS Code category is Wired Telecommunications Carriers. Under the applicable SBA size standard, such a business is small if it has 1,500 or fewer employees. U.S. Census Bureau data for 2012 indicates that 3,117 firms operated the entire year. Of this total, 3,083 operated with fewer than 1,000 employees. Consequently, the Commission estimates that most providers of incumbent local exchange service are small businesses that may be affected by our actions. According to Commission data, 1,307 Incumbent Local Exchange Carriers reported that they were incumbent local exchange service providers. Of this total, an estimated 1,006 have 1,500 or fewer employees. Thus, using the SBA's size standard, the majority of incumbent LECs can be considered small entities.

13. Competitive Local Exchange Carriers (Competitive LECs), Competitive Access Providers (CAPs), Shared-Tenant Service Providers, and Other Local Service Providers. Neither the Commission nor the SBA has developed a small-business size standard specifically for these service providers. The most appropriate NAICS Code category is Wired Telecommunications Carriers. Under that size standard, such a business is small if it has 1,500 or fewer employees. U.S. Census Bureau data for 2012 indicate that 3,117 firms operated during that year. Of that number, 3,083 operated with fewer than 1,000 employees. Based on these data, the Commission concludes that the majority of Competitive LECS, CAPs, Shared-Tenant Service Providers, and Other Local Service Providers are small entities. According to Commission data, 1,442 carriers reported that they were engaged in the provision of either competitive local exchange services or competitive access provider services. Of these 1,442 carriers, an estimated 1,256 have 1,500 or fewer employees. In addition, 17 carriers have reported that they are Shared-Tenant Service Providers, and all 17 are estimated to have 1,500 or fewer employees. Additionally, 72 carriers have reported that they are Other Local Service Providers. Of this total, 70 have 1,500 or fewer employees. Consequently, based on internally researched FCC data, the Commission estimates that most providers of competitive local exchange service, competitive access providers, Shared-Tenant Service Providers, and Other Local Service Providers are small entities.

14. We have included small incumbent LECs in this present RFA analysis. As noted above, a “small business” under the RFA is one that, inter alia, meets the pertinent small-business size standard (e.g., a telephone communications business having 1,500 or fewer employees) and “is not dominant in its field of operation.” The SBA's Office of Advocacy contends that, for RFA purposes, small incumbent LECs are not dominant in their field of operation because any such dominance is not “national” in scope. We have therefore included small incumbent LECs in this RFA analysis, although we emphasize that this RFA action has no effect on Commission analyses and determinations in other, non-RFA contexts.

15. Interexchange Carriers (IXCs). Neither the Commission nor the SBA has developed a definition for Interexchange Carriers. The closest NAICS Code category is Wired Telecommunications Carriers. The applicable size standard under SBA rules is that such a business is small if it has 1,500 or fewer employees. U.S. Census Bureau data for 2012 indicate that 3,117 firms operated for the entire year. Of that number, 3,083 operated with fewer than 1,000 employees. According to internally developed Commission data, 359 companies reported that their primary telecommunications service activity was the provision of interexchange services. Of this total, an estimated 317 have 1,500 or fewer employees. Consequently, the Commission estimates that the majority of interexchange service providers are small entities.

16. Cable System Operators (Telecom Act Standard). The Communications Act of 1934, as amended, also contains a size standard for small cable system operators, which is “a cable operator that, directly or through an affiliate, serves in the aggregate fewer than one percent of all subscribers in the United States and is not affiliated with any entity or entities whose gross annual revenues in the aggregate exceed $250,000,000.” As of 2018, there were approximately 50,504,624 cable video subscribers in the United States. Accordingly, an operator serving fewer than 505,046 subscribers shall be deemed a small operator if its annual revenues, when combined with the total annual revenues of all its affiliates, do not exceed $250 million in the aggregate. Based on available data, we find that all but six incumbent cable operators are small entities under this size standard. We note that the Commission neither requests nor collects information on whether cable system operators are affiliated with entities whose gross annual revenues exceed $250 million. Therefore, we are unable at this time to estimate with greater precision the number of cable system operators that would qualify as small cable operators under the definition in the Communications Act.

17. Cable Companies and Systems (Rate Regulation). The Commission has also developed its own small business size standards, for the purpose of cable rate regulation. Under the Commission's rules, a “small cable company” is one serving 400,000 or fewer subscribers nationwide. Industry data indicate that there are 4,600 active cable systems in the United States. Of this total, all but seven cable operators nationwide are small under the 400,000-subscriber size standard. In addition, under the Commission's rate regulation rules, a “small system” is a cable system serving 15,000 or fewer subscribers. Commission records show 4,600 cable systems nationwide. Of this total, 3,900 cable systems have fewer than 15,000 subscribers, and 700 systems have 15,000 or more subscribers, based on the same records. Thus, under this standard as well, we estimate that most cable systems are small entities.

Wireless Carriers

18. Wireless Telecommunications Carriers (except Satellite). This industry comprises establishments engaged in operating and maintaining switching and transmission facilities to provide communications via the airwaves. Establishments in this industry have spectrum licenses and provide services using that spectrum, such as cellular services, paging services, wireless internet access, and wireless video services. The appropriate size standard under SBA rules is that such a business is small if it has 1,500 or fewer employees. For this industry, U.S. Census Bureau data for 2012 show that there were 967 firms that operated for the entire year. Of this total, 955 firms had employment of 999 or fewer employees and 12 had employment of 1,000 employees or more. Thus under this category and the associated size standard, the Commission estimates that the majority of wireless telecommunications carriers (except satellite) are small entities.

19. The Commission's own data—available in its Universal Licensing System—indicate that, as of August 31, 2018, there are 265 Cellular licensees that will be affected by our actions today. The Commission does not know how many of these licensees are small, as the Commission does not collect that information for these types of entities. Similarly, according to internally developed Commission data, 413 carriers reported that they were engaged in the provision of wireless telephony, including cellular service, Personal Communications Service (PCS), and Specialized Mobile Radio (SMR) Telephony services. Of this total, an estimated 261 have 1,500 or fewer employees, and 152 have more than 1,500 employees. Thus, using available data, we estimate that the majority of wireless firms can be considered small.

20. Satellite Telecommunications. This category comprises firms “primarily engaged in providing telecommunications services to other establishments in the telecommunications and broadcasting industries by forwarding and receiving communications signals via a system of satellites or reselling satellite telecommunications.” Satellite telecommunications service providers include satellite and earth station operators. The category has a small business size standard of $32.5 million or less in average annual receipts, under SBA rules. For this category, U.S. Census Bureau data for 2012 show that there were a total of 333 firms that operated for the entire year. Of this total, 299 firms had annual receipts of less than $25 million. Consequently, we estimate that the majority of satellite telecommunications providers are small entities.

Resellers

21. Local Resellers. The SBA has not developed a small business size standard specifically for Local Resellers. The SBA category of Telecommunications Resellers is the closest NAICs code category for local resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data for 2012 show that 1,341 firms provided resale services during that year. Of that number, all operated with fewer than 1,000 employees. Thus, under this category and the associated small-business size standard, the majority of these resellers can be considered small entities. According to Commission data, 213 carriers have reported that they are engaged in the provision of local resale services. Of these, an estimated 211 have 1,500 or fewer employees. Consequently, the Commission estimates that the majority of Local Resellers are small entities.

22. Toll Resellers. The Commission has not developed a definition for Toll Resellers. The closest NAICS Code category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small-business size standard for the category of Telecommunications Resellers. Under that size standard, such a business is small if it has 1,500 or fewer employees. U.S. Census Bureau data for 2012 show that 1,341 firms provided resale services during that year. Of that number, 1,341 operated with fewer than 1,000 employees. Thus, under this category and the associated small-business size standard, the majority of these resellers can be considered small entities. According to Commission data, 881 carriers have reported that they are engaged in the provision of toll resale services. Of this total, an estimated 857 have 1,500 or fewer employees. Consequently, the Commission estimates that the majority of toll resellers are small entities.

23. Prepaid Calling Card Providers. Neither the Commission nor the SBA has developed a small business definition specifically for prepaid calling card providers. The most appropriate NAICS code-based category for defining prepaid calling card providers is Telecommunications Resellers. This industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under that size standard, such a business is small if it has 1,500 or fewer employees. U.S. Census Bureau data for 2012 show that 1,341 firms provided resale services during that year. Of that number, all operated with fewer than 1,000 employees. Thus, under this category and the associated small business size standard, the majority of these prepaid calling card providers can be considered small entities. According to Commission data, 193 carriers have reported that they are engaged in the provision of prepaid calling cards. All 193 carriers have 1,500 or fewer employees. Consequently, the Commission estimates that the majority of prepaid calling card providers are small entities that may be affected by these rules.

24. Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small business size standard for the category of Telecommunications Resellers. Under that size standard, such a business is small if it has 1,500 or fewer employees. U.S. Census Bureau data for 2012 show that 1,341 firms provided resale services during that year. Of that number, 1,341 operated with fewer than 1,000 employees. Thus, under this category and the associated small business size standard, the majority of these resellers can be considered small entities.

Other Entities

25. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small-business size standard for All Other Telecommunications, which consists of all such firms with annual receipts of $35 million or less. For this category, U.S. Census Bureau data for 2012 shows that there were 1,442 firms that operated for the entire year. Of those firms, a total of 1,400 had annual receipts less than $25 million and 42 firms had annual receipts of $25 million to $49,999,999. Thus, the Commission estimates that the majority of “All Other Telecommunications” firms potentially affected by our action can be considered small.

Description of Projected Reporting, Recordkeeping, and Other Compliance Requirements for Small Entities

26. New or additional reporting, recordkeeping and/or other compliance obligations for small entities and other providers may result from the rules the Commission ultimately adopts in this proceeding. The TRACED Act mandates widespread implementation of STIR/SHAKEN, a technology that enables voice service providers to verify that the caller ID information transmitted with a particular call matches the caller's number, but also contemplates that some voice service providers facing barriers to implementation may be granted a delay of compliance. The TRACED Act requires the Commission to take action if the registered consortium identifies a provider of voice service that is subject to a delay of compliance as repeatedly originating large-scale unlawful robocall campaigns. Once a provider is so identified, the Commission must require such a provider to take action to ensure that such provider does not continue to originate such calls and make reasonable efforts to minimize the burden of any robocall mitigation. . . . which may include prescribing certain specific robocall mitigation practices for providers of voice service that have repeatedly originated large-scale unlawful robocall campaigns. One of the potential practices we raise and seek comment on in the Further Notice to fulfill these obligations would require voice service providers that the registered consortium identifies as originating large-scale unlawful robocall campaigns to submit a compliance plan and file periodic reports on its efforts to conform to that plan to ensure that these providers do not continue to originate such calls. Another potential practice would require identified voice service providers to implement know-your-customer obligations and report the contact information for each of its customers to the registered consortium or the Commission. The Further Notice also seeks comment on adopting a requirement for identified providers to implement internal measures to monitor the traffic transiting their networks to ensure that it is consistent with legitimate voice traffic and to act in response to aberrant patterns.

27. If the Commission were to move forward with these potential requirements, certain voice service providers would have new reporting, recordkeeping, and compliance requirements. At this time however, the Commission cannot quantify the cost of compliance with these potential rule changes and compliance obligations for small entities and is not currently in a position to determine whether small entities will need to hire attorneys, engineers, consultants, or other professionals in order to comply. We expect the information we receive in comments including any cost and benefit analyses, to help the Commission identify and evaluate relevant matters for small entities, including compliance costs and other burdens that may result from the matters raised in the Further Notice.

Steps Taken To Minimize the Significant Economic Impact on Small Entities, and Significant Alternatives Considered

28. The RFA requires an agency to describe any significant, specifically small business, alternatives that it has considered in reaching its proposed approach, which may include the following four alternatives (among others): (1) The establishment of differing compliance or reporting requirements or timetables that take into account the resources available to small entities; (2) the clarification, consolidation, or simplification of compliance and reporting requirements under the rules for such small entities; (3) the use of performance rather than design standards; and (4) an exemption from coverage of the rule, or any part thereof, for such small entities.

29. Pursuant to the requirements of the TRACED Act, the Commission is obligated to minimize burdens for small entities and other voice service providers associated with any robocall mitigation processes and procedures the Commission adopts. In the Further Notice we raise questions on the approach the Commission should take to address robocall mitigation such as should we prescribe specific robocall mitigation practices, and if so, what practices should we prescribe? Should we require the identified provider to submit a compliance plan and periodic reports on its efforts to conform to that plan? Should we propose that an identified provider make a point of contact available to the Commission, the consortium, and others and to respond to concerns within a specified period of time, such as 14 days? We seek comment on these matters, including the benefits and drawbacks of our approach. We also seek comment on how identified voice service providers will be impacted and welcome proposals on how to lessen that impact. In reaching our final conclusions and promulgating rules in this proceeding, the Commission expects to more fully consider the economic impact and any alternatives for small entities, as identified in comments filed in response to the Further Notice.

Federal Rules That May Duplicate, Overlap, or Conflict With the Proposed Rules

30. None.

III. Other Procedural Matters

31. Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte was made, and (2) summarize all data presented and arguments made during the presentation. If the presentation consisted in whole or in part of the presentation of data or arguments already reflected in the presenter's written comments, memoranda, or other filing in the proceeding, the presenter may provide citations to such data or arguments in his or her prior comments, memoranda, or other filings (specifying the relevant page and/or paragraph numbers where such data or arguments can be found) in lieu of summarizing them in the memorandum. Documents shown or given to Commission staff during ex parte meeting are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable.pdf). Participants in this proceeding should familiarize themselves with the Commission's ex parte rules.

32. Initial Paperwork Reduction Act Analysis of 1995. The Further Notice contains proposed new information collection requirements. The Commission, as part of its continuing effort to reduce paperwork burdens, invites the general public and the Office of Management and Budget (OMB) to comment on the information collection requirements contained in this document, as required by the paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

IV. Ordering Clauses

33. Accordingly, it is ordered, pursuant to sections 4(i), 4(j), 227, and 303(r) of the Communications Act of 1934, as amended, 47 U.S.C. 154(1), 154(j), 227, and 303(r), and section 4(b)(5)(C) of the Pallone-Thune Telephone Robocall Abuse Criminal Enforcement and Deterrence Act, Public Law 116-105, 133 Stat. 3274, that this Further Notice of Proposed Rulemaking is adopted.

34. It is further ordered, that a copy this Further Notice of Proposed Rulemaking, including the Initial Regulatory Flexibility Analysis (IRFA), SHALL be sent to the Chief Counsel for Advocacy of the Small Business Administration (SBA), and published in the Federal Register.

Federal Communications Commission.
Cecilia Sigmund,
Federal Register Liaison Officer.

[FR Doc. 2020-10896 Filed 6-9-20; 8:45 am]

BILLING CODE 6712-01-P